COMMISSION ON CIVIL RIGHTS

Sunshine Act Notice

AGENCY: United States Commission on Civil Rights.

ACTION: Notice of meeting.

Date and Time: Friday, October 12, 2007; 9:30 a.m.

Place: U.S. Commission on Civil Rights, 624 Ninth Street, NW., Rm. 540, Washington, DC 20425.

Meeting Agenda

I. Approval of Agenda.

II. Approval of Minutes of September 21, Meeting.

III. Announcements.

IV. Staff Director's Report.

V. Management and Operations.

• Strategic Plan.

• Establishment of Briefing and Meeting Schedule for 2008.

• Celebration of Commission's 50th Anniversary.

• Information Quality Guidelines.

• Involvement of Commissioners in Staff Activities.

VI. Program Planning.

• Consideration of Proposed Debate on Race and Intelligence.

VII. State Advisory Committee Issues.

• South Carolina SAC.

• Involvement of Commissioners on State Advisory Committees.

VIII. Future Agenda Items.

IX. Adjourn.

Contact Person for Further Information: Manuel Alba, Press and Communications, (202) 376-8582.

Dated: October 2, 2007.
David Blackwood,
General Counsel.

[FR Doc. 07-4949 Filed 10-2-07; 12:32 pm]

BILLING CODE 6335-01-P